DEPARTMENT OF TRANSPORTATION

Federal Motor Carrier Safety Administration

[Docket No. FMCSA-2014-0017]

Qualification of Drivers; Exemption Applications; Diabetes Mellitus

AGENCY: Federal Motor Carrier Safety Administration (FMCSA), DOT.

ACTION: Notice of final disposition.

SUMMARY: FMCSA confirms its decision to exempt 72 individuals from its rule prohibiting persons with insulin-treated diabetes mellitus (ITDM) from operating commercial motor vehicles (CMVs) in interstate commerce. The exemptions allow these individuals to operate CMVs in interstate commerce.

DATES: The new exemptions were granted on July 25, 2014. All exemptions expire two years from the effective date.

FOR FURTHER INFORMATION CONTACT: Elaine M. Papp, Chief, Medical Programs Division, 202-366-4001, U.S. Department of Transportation, FMCSA, 1200 New Jersey Avenue SE., Room W64-224, Washington, DC 20590-0001. Office hours are from 8:30 a.m. to 5 p.m. Monday through Friday, except Federal holidays.

SUPPLEMENTARY INFORMATION:

Electronic Access

You may see all the comments online through the Federal Document Management System (FDMS) at: http://www.regulations.gov.

Docket: For access to the dockets to read background documents or comments, go to http://www.regulations.gov and/or Room W12-140 on the ground level of the West Building, 1200 New Jersey Avenue SE., Washington, DC, between 9 a.m. and 5 p.m., Monday through Friday, except Federal holidays.

Privacy Act: Anyone may search the electronic form of all comments received into any of DOT's dockets by the name of the individual submitting the comment (or of the person signing the comment, if submitted on behalf of an association, business, labor union, or other entity). You may review DOT's Privacy Act Statement for the Federal Docket Management System (FDMS) published in the Federal Register on January 17, 2008 (73 FR 3316).

Background

FMCSA has published notices of receipt of Federal diabetes exemption applications and its intent to grant the exemptions. The Agency also requested comments from the public. The comment period closed 30 days after the publication date and the exemptions were issued the day after the comment period closed.

FMCSA evaluated the eligibility of the drivers and determined that granting the exemptions to these individuals would achieve a level of safety equivalent to or greater than the level that would be achieved by complying with the current regulation 49 CFR 391.41(b)(3).

The determining criteria for and the conditions and requirements of the exemptions, to which all exempted drivers are subject, were discussed in detail when the docket was originally published (79 FR 35844). As always, any adverse comments that come in after the exemption is granted will be evaluated, and if they indicate that the driver is not achieving a level of safety equivalent to or greater than the level of safety that would be obtained by complying with the regulation, the exemption will be revoked. When granted, the exemptions will enable these individuals with ITDM to operate in interstate commerce.

Exemptions Granted

The following 72 individuals were included in Docket No. FMCSA-2014-0017 (79 FR 35844), published on June 24, 2014:

Todd Y. Albright (MT)

Weslyn E. Allen (IL)

John H. Ascheman (MN)

Robert M. Borunda (CA)

Alan F. Brown Jr. (IN)

Forrest L. Burghard (PA)

Theodore W. Burnette (CA)

Kevin M. Butler (CA)

John Canal (NY)

Anthony C. Cole (WY)

Kevin G. Comstock (MN)

Jacob S. Crawford (GA)

Christopher Dave (MI)

Anthony J. Davis (IN)

Justin J. Day (SD)

Charles G. Denegal (WA)

Wayne H. Dirks (WA)

Charles G. Elliot (IN)

Joseph S. Farrow (MN)

James R. Fiecke (ND)

Rebecca A. Frye (IN)

Eric C. Gambill (OH)

Mark P. Gerrits (WI)

Michael Gilon (NH)

Chance A. Gooch (GA)

Robert L. Harris (IN)

William G. Harvey (OR)

Darrel S. Haynes (PA)

Joseph D. Helget (OR)

Charles D. Henderson (NY)

Russell J. Hicks (MN)

Stephen L. Hill (NY)

Marvin S. Howard (OH)

Larry A. Hrdlicka (IA)

Michael L. Jackson (NC)

Eric A. Knox (KY)

Erik M. Lindquist (WA)

Thomas K. Linkel (IN)

Christine I. Llewellyn (IL)

Larry D. Lynds (ME)

Ryan A. Malandrone (WI)

Thomas J. Manning (MN)

Joseph R. Martinez (AZ)

Steve A. Meharry (WA)

Robert A. Miller Jr. (WV)

Ben G. Moore (IL)

Chad M. Morris (NY)

Paul C. Mortenson (WI)

William D. Murray (AL)

Jacob D. Nafziger (OH)

Edward T. Nauer (VA)

Keith W. Nichols (TX)

Mark A. Novak (WI)

Colin R. Parmelee (IN)

Michelle L. Perkins (WA)

Robert S. Schreiber (PA)

Matthew P. Sczpanski (OH)

Jason F. Snyder (ME)

Anthony S. Sobreiro (NJ)

Carl A. Spivey (AL)

Colby E. Starner (PA)

Daniel E. Stephens (NY)

Robert A. Stewart (IA)

Bartholomew Taliaferro (PA)

Johnathan D. Truitt (IL)

Brett T. Tyler (OK)

Rylan P. Wheeler (IL)

Gordon J. White (MO)

Kelly L. Whitley (NC)

Jerry R. Williams (GA)

Charles L. Wojton (PA)

Steven L. Zimmer (OH)

The public comment period for this docket closed on July 24, 2014 and the exemptions were issued and effective on July 25, 2014. The exemptions will expire two years from the effective date on July 25, 2016.

FMCSA received two comments in this proceeding. The comments are considered and discussed below.

An anonymous commenter stated that he or she is in favor of granting the exemptions to the aforementioned drivers.

Another anonymous commenter stated that a person “with diabetes that monitors their sugar levels, takes their medications as directed, watches their food intake and regularly makes doctor visits is healthier than most people.”

Two drivers published in the Docket No. FMCSA-2014-0017 (79 FR 35844), Gary L. Burkett (IL) and Frank E. Shamer (MD), are no longer using insulin and therefore do not need an exemption.

Issued On: August 20, 2014.
Larry W. Minor,
Associate Administrator for Policy.

[FR Doc. 2014-20367 Filed 8-26-14; 8:45 am]

BILLING CODE 4910-EX-P